DEPARTMENT OF THE INTERIOR

Bureau of Land Management

[OR-930-07-5870-EU; OR-63956; HAG-07-0135]

Notice of Realty Action; Non-Competitive (Direct) Sale of Public Land; Harney County, OR

AGENCY: Bureau of Land Management, Interior.

ACTION: Notice of Realty Action.

SUMMARY: A 240-acre parcel of public land in Harney County, Oregon, is being considered for direct sale to resolve an inadvertent occupancy trespass. The parcel is the minimum size possible to resolve the encroachment. The parcel proposed for sale is identified as suitable for disposal in the BLM Andrews and Drewsey Management Framework Plan, dated September 1987, and the BLM Andrews Resource Management Plan and Record of Decision, dated July 15, 2005.

DATES: Submit comments on or before November 16, 2007. Only written comments will be accepted.

ADDRESSES: Address all written comments to Karla Bird, Andrews Resource Area Field Manager, Burns District Office, Bureau of Land Management, 28910 Hwy 20 West, Hines, Oregon 97738. Comments expressed verbally or in electronic format will not be accepted.

FOR FURTHER INFORMATION CONTACT: Holly Orr, Realty Specialist, at (541) 573-4501.

SUPPLEMENTARY INFORMATION: The following described public land in Harney County, Oregon, has been examined and found suitable for sale under sections 203 and 209 of the Federal Land Policy and Management Act of 1976 (90 Stat. 2750; 43 U.S.C. 1713 and 1719). The parcel proposed for sale is identified as follows:

Willamette Meridian, Oregon

T. 33 S., R. 30 E., Sec. 28, N½S½ and S½SE¼.

The area described contains 240 acres in Harney County.

This parcel will be sold at not less than the appraised market value, currently determined to be $42,500. In accordance with 43 CFR 2711.3-3(a)(5), direct sale procedures are appropriate to resolve inadvertent unauthorized use or occupancy of the land. The encroachment involves portions of outbuildings, an abandoned airstrip, ranch waste, haystacks, cattle supplement tanks, and metal debris that are spread over the entire 240-acre parcel.

Gary Miller, Rock Creek Ranch, Inc., will be allowed 30 days from receipt of a written offer to submit a deposit or at least 10 percent of the appraised market value of the parcel and within 180 days thereafter to submit the balance. No representation, warranty or covenant of any kind, express or implied, will be given or made by the United States, its officers or employees, as to access to or from the above described parcel of land, the title to the land, whether or to what extent the land may be developed, its physical condition or its past, present or potential uses. However, to the extent required by law, the sale will be subject to the requirements of section 120(h) of the Comprehensive Environmental Response, Compensation and Liability Act (42 U.S.C. 9620(h)).

As proposed, the sale will be made, and the land will be conveyed, subject to:

1. Valid existing rights;

2. A right-of-way for ditches and canals reserved by the United States pursuant to the Act of August 30, 1890 (43 U.S.C. 945);

3. Local zoning and subdivision laws, if any.

By accepting deed/patent, and to the extent allowed by law, the purchaser agrees to indemnify, defend and hold harmless the United States from any cost, damages, claims, causes of action, penalties, fines, liabilities, and judgments of any kind or nature arising from past, present and future acts or omissions of the purchaser, previous landowners or subsequent landowners or contractors, or lessees, or any third party, arising out of, or in connection with the purchaser's use, occupancy, or operations on the real property which has already resulted or does hereafter result in:

(1) Violations of federal, State, and local laws and regulations which are now or may in the future become applicable to the real property;

(2) Judgments, claims and demands of any kind assessed against the United States;

(3) Cost, expense or damages of any kind incurred by the United States;

(4) Other releases or threatened releases on, into, or under land, property and other interests of the United States by solid or hazardous waste(s), or substance(s) as defined by federal and state law;

(5) Natural resource damages as defined by federal and state law; or

(6) Other activities by which solid or hazardous wastes, as defined by federal and state law were generated, used, stored, released or otherwise disposed of on the real property, and any clean-up, response or remedial action, or other action related in any manner to said solid or hazardous substances or wastes.

This covenant shall be construed as running with the real property, and may be enforced by the United States in a court of competent jurisdiction.

The United States Government shall be neither responsible for compliance with a provision of, nor liability arising from the Comprehensive Environmental Response, Compensation and Liability Act of 1980, as amended, (CERCLA 42 U.S.C. 6901 et. seq.), the Resource Conservation and Recovery Act of 1976, as amended (RCRA 42 U.S.C. 6901 et. seq.) or any other applicable provision of Federal Law with respect to a release or threat of release of hazardous substance, pollutant or contaminant, or hazardous waste on the real property conveyed under this deed, except to the extent described in the CERCLA Notice, attached hereto and incorporated herein by reference. (Be sure to attach a copy of the CERCLA Notice).

All persons claiming to own unauthorized improvements on the land are allowed 60 days from the date of sale to remove the improvements.

The mineral interests being offered for conveyance have no known mineral value.

Acceptance of the direct sale offer constitutes an application for conveyance of the mineral interests also being offered under the authority of section 209(b) of the Federal Land Policy and Management Act of 1976 (43 U.S.C. 1719). In addition to the full purchase price, a nonrefundable fee of $50 will be required for the purchase of the mineral interest to be conveyed simultaneously with the sale of the land.

On October 3, 2007, the above described land will be segregated from appropriation under the public land laws, including the mining laws, except the sale provisions of the Federal Land Policy and Management Act of 1976. Until completion of the sale, the Bureau of Land Management is no longer accepting land use applications affecting the identified public lands, except applications for the amendment of previously filed rights-of-way applications or existing authorizations to increase the term of the grants in accordance with 43 CFR 2807.15 and 2886.15. The segregative effect will terminate upon issuance of a patent, publication in the Federal Register of a termination of the segregation, or October 5, 2009, unless extended by the Bureau of Land Management, State Director, in accordance with 43 CFR 2711.1-2(d) prior to the termination date.

Public Comments: On or before November 16, 2007, any person may submit written comments regarding the proposed sale to the Andrews Resource Area Field Manager at the Burns District Office, Bureau of Land Management, 28910 Hwy. 20 West, Hines, Oregon 97738.

Comments, including names, street addresses, and other contact information of respondents, will be available for public review. Before including your address, phone number, e-mail address, or other personal identifying information in your comment, you should be aware that your entire comment—including your personal identifying information—may be made publicly available at any time. While you can ask us in your comment to withhold your personal identifying information from public review, we cannot guarantee that we will be able to do so.

Detailed information, including the appraisal, the Environmental Assessment and the Decision relative to this direct land sale is available at the Burns District Office (address above) during business hours. Inquiries may also be directed to Holly Orr, Realty Specialist, Burns District Office at the above address, or by phone (541) 573-4400. Objections will be reviewed by the Bureau of Land Management, Burns District Manager, who may sustain, vacate, or modify this realty action. In the absence of any objections, this realty action will become the final determination of the Department of the Interior.

(Authority: 43 CFR 2711.1-2)

Dated: August 9, 2007.
Mark W. Sherbourne,
Acting Andrews Resource Area Field Manager.

[FR Doc. E7-19514 Filed 10-2-07; 8:45 am]

BILLING CODE 4310-33-P